FEDERAL COMMUNICATIONS COMMISSION

47 CFR Part 54

[WC Docket Nos. 19-126 and 10-90; Report No. 3146; FRS 16673]

Petitions for Reconsideration of Action in Proceedings

AGENCY: Federal Communications Commission.

ACTION: Petitions for Reconsideration.

SUMMARY: Petitions for Reconsideration (Petitions) have been filed in the Commission's proceedings by Cynthia B. Schultz, on behalf of Illinois Office of Broadband; Doug Boone, on behalf of Heartland Telecommunications Company of Iowa d/b/a Premier Communications; and Sarah L.J. Aceves on behalf of Vermont Department of Public Service.

DATES: Oppositions to the Petitions must be filed on or before May 18, 2020. Replies to an opposition must be filed on or before May 26, 2020.

ADDRESSES: Federal Communications Commission, 445 12th Street SW, Washington, DC 20554.

FOR FURTHER INFORMATION CONTACT: Ian Forbes, Wireline Competition Bureau, Telecommunications Access Policy Division, (202) 418-7400.

SUPPLEMENTARY INFORMATION: This is a summary of the Commission's document, Report No. 3146, released April 14, 2020. Petitions may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Rural Digital Opportunity Fund, Connect America Fund, FCC 20-5, published at 85 FR 13773, March 10, 2020 in WC Docket Nos. 19-126 and 10-90. This document is being published pursuant to 47 CFR 1.429(e). See also 47 CFR 1.4(b)(1) and 1.429(f), (g).

Number of petitions filed: 3.

Federal Communications Commission.
Marlene Dortch,
Secretary, Office of the Secretary.

[FR Doc. 2020-08721 Filed 4-30-20; 8:45 am]

BILLING CODE 6712-01-P